DEPARTMENT OF DEFENSE

Office of the Secretary

[Transmittal No. 23-27]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-27, Policy Justification, and Sensitivity of Technology.

Dated: October 2, 2024.
Aaron T. Siegel,
Alternate OSD Federal Register Liaison Officer, Department of Defense.

Transmittal No. 23-27

Notice of Proposed Issuance of Letter of Offer Pursuant to Section 36(b)(1) of the Arms Export Control Act, as amended

(i) Prospective Purchaser: Government of the Netherlands

(ii) Total Estimated Value:

Major Defense Equipment * | $ 75 million
Other | 35 million
TOTAL | 110 million

Funding Source: National Funds.

(iii) Description and Quantity or Quantities of Articles or Services under Consideration for Purchase:

Major Defense Equipment (MDE):

Up to eight (8) eight-cell MK 41 Vertical Launching Systems (VLS) Baseline (B/L) VII Strike Length Launcher Modules (either system or standalone)

Non-MDE:

Also included are spare parts; handling equipment; transportation test and support equipment; software; engineering/technical assistance; personnel training and training equipment; documentation, publications, and technical data; U.S. Government and contractor technical assistance; and other related elements of logistics and program support.

(iv) Military Department: Navy (NE-P-LIG)

(v) Prior Related Cases, if any: NE-P-LFN, NE-P-LAB

(vi) Sales Commission, Fee, etc., Paid, Offered, or Agreed to be Paid: None

(vii) Sensitivity of Technology Contained in the Defense Article or Defense Services Proposed to be Sold: See Attached Annex

(viii) Date Report Delivered to Congress: June 2, 2023

* As defined in Section 47(6) of the Arms Export Control Act.

POLICY JUSTIFICATION

Netherlands—MK 41 Vertical Launching System (VLS)

The Government of the Netherlands has requested to buy up to eight (8) eight-cell MK 41 Vertical Launching Systems (VLS) Baseline (B/L) VII Strike Length Launcher Modules (either system or standalone). Also included are spare parts; handling equipment; transportation test and support equipment; software; engineering/technical assistance; personnel training and training equipment; documentation, publications, and technical data; U.S. Government and contractor technical assistance; and other related elements of logistics and program support. The total estimated program cost is $110 million.

This proposed sale will support the foreign policy and national security objectives of the United States by improving the security of a NATO ally that is an important force for political stability and economic progress in Europe. It is vital to the U.S. national interest to assist the Netherlands in developing and maintaining a strong and ready self-defense capability.

The proposed sale will provide a defensive capability for the Netherlands while enhancing interoperability with U.S. and other allied forces. The Royal Netherlands Navy intends to use the MK 41 VLS B/L VII strike length launcher modules for their new ship class. These modules are intended for ESSM BLK1 and SM-2 capabilities in support of ongoing and emergent operational needs. The Netherlands has previously purchased MK 41 VLS capability and actively uses it on their current ship classes. The Netherlands will have no difficulty absorbing this equipment and support into its armed forces.

The proposed sale of this equipment and support will not alter the basic military balance in the region.

The prime contractor will be Lockheed Martin Corporation, Bethesda, MD. There are no known offset agreements proposed in connection with this potential sale.

Implementation of the proposed sale will not require the assignment of any additional U.S. Government or contractor representatives to the Netherlands. However, U.S. Government or contractor personnel in-country visits will be required on a temporary basis in conjunction with program technical oversight and support requirements.

There will be no adverse impact on U.S. defense readiness as a result of this proposed sale.

Transmittal No. 23-27

Notice of Proposed Issuance of Letter of Offer Pursuant to Section 36(b)(1) of the Arms Export Control Act

Annex

Item No. vii

(vii) Sensitivity of Technology:

1. The Mk 41 Vertical Launch System (VLS) is a fixed, vertical, multi-missile launching system with the capability to store and launch multiple missile variants depending on the warfighting mission, including the Evolved Sea Sparrow Missile (ESSM), Standard Missile (SM), and Tomahawk Cruise Missiles. This proposed sale would provide tactical VLS capability for the ESSM and SM. The MK 41 VLS is a modular below-deck configuration with each module consisting of 8 missile cells with an associated gas management and deluge system.

2. The highest level of classification of defense articles, components, and services included in this potential sale is CONFIDENTIAL.

3. If a technologically advanced adversary were to obtain knowledge of the specific hardware and software elements, the information could be used to develop countermeasures that might reduce weapon system effectiveness or be used in the development of a system with similar or advanced capabilities.

4. A determination has been made that the Netherlands can provide substantially the same degree of protection for the sensitive technology being released as the U.S. Government. This sale is necessary in furtherance of the U.S. foreign policy and national security objectives outlined in the Policy Justification.

5. All defense articles and services listed in this transmittal are authorized for release and export to the Government of the Netherlands.

[FR Doc. 2024-23119 Filed 10-4-24; 8:45 am]

BILLING CODE 6001-FR-P